DEPARTMENT OF AGRICULTURE

Forest Service

Plumas National Forest, Feather River Ranger District, California, Bald Mountain Project

AGENCY: Forest Service, USDA.

ACTION: Notice of intent to prepare an environmental impact statement.

SUMMARY: The Forest Service will prepare an environmental impact statement on a proposal to harvest trees from approximately 90 acres using group selection silviculture methods, from approximately 100 acres using individual tree selection silviculture methods, and perform associated road system improvements within the pilot project area defined in the Herger-Feinstein Quincy Library Group Forest Recovery Act, October 1998 (HFQLGFRA).

DATES: Comments concerning the scope of the analysis must be received within 30 days of the publication of this notice in the Federal Register. The draft environmental impact statement is expected by May, 2005 and the final environmental impact statement is expected by August, 2005.

ADDRESSES: Send written comments to Karen L. Hayden, District Ranger, Feather River Ranger District, 875 Mitchell Avenue, Oroville, CA 95965. Submit electronic comments to comments-pacificsouthwest-plumas-featherrvr@fs.fed.us. See SUPPLEMENTARY INFORMATION for file formats and other information about filing comments.

FOR FURTHER INFORMATION CONTACT: Katherine Worn, Project Leader, at the above address or call (530) 534-6500.

SUPPLEMENTARY INFORMATION: The project area is approximately 8,000 acres and is entirely located within Plumas County, California. It is generally situated around Little Grass Valley Reservoir and the South Fork of the Feather River. The LaPorte/Quincy Road borders the project area to the east while Lumpkin Road and Forest Service Roads 22N27 and 22N57 transect the western half of the project area. The legal description of the project area is as follows: T.22N, R.8E, part of Section 24; T.22N., R.9E., portions of Sections 12, 13, 17, 18, 19, 20, 24, 27, 28, 29 and 34; and T.22N., R.10E. portions of Sections 7, 8, 17, 18, of the Mount Diablo Base Meridian. The project area ranges in elevation from 5,000 to 6,500 feet above mean sea level.

Purpose and Need for Action

Resource specialists examined the project area to determine the existing condition and to identify opportunities and specific management practices that could be implemented to accomplish management direction and goals described in the Plumas National Forest Land and Resource Management Plan, August 1988, as amended by the August 1999 Record of Decision for the HFQLGFRA, as well as the Sierra Nevada Framework Forest Plan Amendment of January 2004, which amended the Sierra Nevada Framework Forest Plan Amendment of January 2001.

Within the project area, treatment is needed to increase representation of fire-adapted tree species, improve forest health and vigor, reduce fuels, and increase canopy layer, seral stage, and age class diversity. The purpose of the project is to meet those needs by implementing group selection and individual tree selection silvicultural systems as directed in the HFQLGFRA and the Sierra Nevada Forest Plan Amendment 2004 Record of Decision.

The project is designed to: (1) Test the effectiveness of group selection and individual tree selection treatments in achieving an all-aged, multistory, fire-resilient forest, (2) provide an adequate timber supply that contributes to the economic stability of rural communities, and (3) promote ecological health of the forest.

Proposed Action

The Forest Service proposes to conduct group selection timber harvest in approximately 50 groups covering approximately 90 acres. Group selection involves harvest of trees up to 30-inches in diameter from small (less than two acres) areas, resulting in uneven-aged (all-aged) forests made up of a patchwork of small groups of same-aged trees. Undamaged, healthy, shade-tolerant conifers would be retained in groups. Individual tree selection would be used to remove individually-selected trees less than 30-inches in diameter from approximately 100 acres. Non-merchantable trees (small trees less than nine inches in diameter) would be masticated or removed for biomass to reduce ladder fuels and increase crown base height.

Responsible Official

Karen L. Hayden, District Ranger, Feather River Ranger District, 875 Mitchell Avenue, Oroville, CA 95965 is the Responsible Official.

Nature of Decision To Be Made

The Forest Service must decide whether it will implement this proposal, an alternative design that moves the area towards the desired condition, or not to implement any project at this time.

Scoping Process

Notice of the proposed action was first listed in the Plumas National Forest's Schedule of Proposed Actions in October, 1997. In August of 1998, a scoping letter was sent to interest and affected tribes, individuals, organizations, and Federal, State, and local agencies with responsibilities for local resource management. The Bald Mountain Landscape Analysis was completed in October, 1998 to: (1) Evaluate the condition of the landscape, (2) develop desired conditions for the Bald Mountain landscape, and (3) identify opportunities for moving the landscape toward desired conditions. An Environmental Assessment for the project was completed in March, 1999 and distributed for public review. A Decision Notice to proceed with the Bald Mountain Project was signed in June of 1999. The project was designed to treat approximately 1,907 acres by thinning and 66 acres by modified group selection. The resulting Decision (June, 1999) was never implemented. In December of 2004, a new proposed action for the Bald Mountain project was mailed to 192 individuals, groups, organizations, tribes, and Federal, State, and local agencies. The scoping letter was sent to those who expressed interest in the proposal, those who owned property or held mining claims in and adjacent to the project area, and to agencies with responsibilities for local resource management. The revised proposal called for harvesting trees using group selection methods on approximately 90 acres and by individual tree selection on approximately 100 acres within the HFQLGFRA pilot project area. A Legal Notice announcing the start of the scoping process was published in the Oroville Mercury-Register on December 17, 2004. Eight comments have been received since the start of the scoping period.

After evaluating responses to the December 2004 scoping, the Forest Service has decided to prepare an environmental impact statement (EIS) for the Bald Mountain project. This notice of intent invites additional public comment on this proposal and initiates the preparation of the environmental impact statement. The proposal has not been changed since scoping in December 24. Comments submitted at that time will be used in the environmental analysis process. Due to the extensive scoping efforts already conducted, no scoping meeting is planned.

The scoping process will include identification of potential issues, in depth analysis of significant issues, development of alternatives to the proposed action, and determination of potential environmental effects of the proposal and alternatives. While public participation in this analysis is welcome at any time, comments received within 30 days of the publication of this notice will be especially useful in the preparation of the draft environmental impact statement. The public is encouraged to take part in the planning process and to visit with Forest Service officials at any time during the analysis and prior to the decision.

Addresses

Comments may be: (1) Mailed to the Responsible Official; (2) hand delivered between the hours of 8 a.m.-4:30 p.m. weekdays Pacific Time; (3) faxed to (530) 532-1210; or (4) electronically mailed to: comments-pacificsouthwest-plumas-featherrvr@fs.fed.us. Comments submitted electronically must be in Rich Text Format (.rtf).

Comment Requested

This notice of intent initiates the scoping process which guides the development of the environmental impact statement. Comments submitted during the December 2004 scoping period will be used in the environmental analysis process. Those who submitted comments at that time do not need to comment again, unless they have new comments they would like to provide. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review

A draft environmental impact statement will be prepared for comment. The comment period on the draft environmental impact statement will be forty-five days from the date the Environmental Protection Agency publishes the notice of availability in the Federal Register

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the forty-five day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: February 3, 2005.
Terri Simon-Jackson,
Acting Forest Supervisor.

[FR Doc. 05-2605 Filed 2-9-05; 8:45 am]

BILLING CODE 3410-11-M